OFFICE OF PERSONNEL MANAGEMENT

[OMB Control No. 3206-0219]

Submission for Review: Revision of an Existing Information Collection, USAJOBS

AGENCY: U.S. Office of Personnel Management.

ACTION: 60-Day notice and request for comments.

SUMMARY: The Office of Personnel Management (OPM) offers the general public and other Federal agencies the opportunity to comment on a revised information collection request (ICR) 3206-0219, USAJOBS. As required by the Paperwork Reduction Act of 1995, (Pub. L. 104-13, 44 U.S.C. chapter 35) as amended by the Clinger-Cohen Act (Pub. L. 104-106), OPM is soliciting comments for this collection. In particular, we invite comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until January 10, 2011. This process is conducted in accordance with 5 CFR 1320.1.

ADDRESSES: Interested persons are invited to submit written comments on the proposed information collection to the U.S. Office of Personnel Management, Employment Services, USAJOBS®, 1900 E. Street, NW., Washington, DC 20415, Attention: Patricia Stevens, or send them via electronic mail to patricia.stevens@opm.gov.

FOR FURTHER INFORMATION CONTACT: A copy of this ICR, with applicable supporting documentation, may be obtained by contacting the U.S. Office of Personnel Management, Employment Services, USAJOBS, 1900 E. Street, NW., Washington, DC 20415, Attention: Patricia Stevens, or by sending a request via electronic mail to patricia.stevens@opm.gov.

SUPPLEMENTARY INFORMATION: USAJOBS is the Federal Government's official one-stop source for Federal jobs and employment information. The Applicant Profile and Resume Builder are two components of the USAJOBS application system. USAJOBS reflects the minimal critical elements collected across the Federal Government to assess an applicant's qualifications for Federal jobs under the authority of sections 1104, 1302, 3301, 3304, 3320, 3361, 3393, and 3394 of title 5, United States Code. This revision proposes to add optional questions to the Applicant Profile in USAJOBS that will allow applicants to self-identify themselves (subject to subsequent verification by the appointing agency) as eligible for certain special hiring authorities. This is expected to streamline some hiring actions by allowing agencies to mine or search for resumes of applicants who have volunteered information about their eligibility under special hiring authorities. Information volunteered by applicants about their potential eligibility under one or more special hiring authorities will be stored in USAJOBS and will only become visible to agencies that are considering filling a job using a special hiring authority. In that case, the hiring agency will be able to search USAJOBS for potential applicants who have chosen to indicate that they believe they are eligible to be selected under the special authority the agency seeks to use. The special hiring authorities are as follows:

1. Employment of a disabled veteran who has a compensable service-connected disability of 30 percent or more.

5 CFR 316.402(b)(4) Temporary Appointment.

5 CFR 316.302(b)(4) Term Appointment.

2. Military Spouse—Executive Order 13473, Noncompetitive Appointing Authority for Certain Military Spouses.

5 CFR 315.612.

Non-competitive appointment of certain former overseas military spouse employees.

5 CFR 315.608.

3. Schedule “A”—Excepted Service—Appointment of Persons with Disabilities.

5 CFR 213.3102(u).

4. Veterans Employment Opportunities Act (VEOA).

5 CFR 315.611.

5. Veterans Recruitment Appointment (VRA).

5 CFR 307.

5 CFR 316.302(b)(2) Term Appointment.

5 CFR 316.402(b)(2) Temporary Appointment.

6. Employment of disabled veterans who completed a training course under Chapter 31 of title 38 United States Code.

5 CFR 315.604.

Applicants who do not choose to use this opportunity to volunteer information about their eligibility under a special hiring authority may still choose to apply for jobs, as they are announced, under any of these special hiring authorities for which they are eligible. If applicants volunteer to provide information through the Web site about the special hiring authorities for which they believe they are eligible, then agencies that are searching for potential applicants to hire under one of these authorities may be able to locate their resume through USAJOBS and invite them to apply. Otherwise, this information will be retained in the USAJOBS database and not disclosed.

This Notice also announces that OPM intends to submit to the Office of Management and Budget a request to discontinue the use of the Application for Federal Employment, Optional Form (OF) 612. The OF 612 has been used as an optional form to apply for Federal jobs. Applicants for Federal positions may submit a resume as an alternative. The information contained in the OF 612 is incorporated in the online Resume Builder on the USAJOBS Web site. The need to maintain the OF 612 as an alternative means of applying for Federal positions no longer exists as job seekers now have the option to either build or upload resumes. This action is being taken to facilitate a more seamless employment application process for both Federal agencies and job seekers, consistent with the goals of Federal hiring reform. We estimate it will take approximately 38 minutes to initially complete the Resume Builder, depending on the amount of information the applicant wishes to include, and approximately five minutes to initially complete the Applicant Profile. We estimate over 3,500,000 new USAJOBS accounts will be submitted annually. The total annual estimated burden is 2,508,333 hours.

John Berry,
Director, U.S. Office of Personnel Management.

[FR Doc. 2010-28430 Filed 11-9-10; 8:45 am]

BILLING CODE 6325-38-P